DEPARTMENT OF THE INTERIOR

Fish and Wildlife Service

Notice of Availability of a Draft Safe Harbor Agreement and Receipt of an Application for an Enhancement of Survival Permit Associated With Proposed Restoration Activities for the Karner Blue Butterfly in the West Gary, Indiana Recovery Unit

AGENCY: Fish and Wildlife Service, Interior.

ACTION: Notice of availability.

SUMMARY: The Nature Conservancy (Applicant) has applied to the U.S. Fish and Wildlife Service (Service) for an Enhancement of Survival Permit Associated with proposed restoration activities for the Karner blue butterfly (Lycaeides melissa samuelis) pursuant to section 10(a)(1)(A) of the Endangered Species Act of 1973 (U.S.C. 1531 et seq.), as amended (Act). This permit application includes a draft Safe Harbor Agreement (SHA) between the Applicant and the Service. The proposed SHA and permit would become effective upon signature of the SHA and issuance of the permit and would remain in effect for 15 years. We are requesting comments on the permit application and on the Service's preliminary determination that the proposed SHA qualifies as a categorical exclusion (516 DM 6 Appendix 1, 1.4C(1)) under the National Environmental Policy Act (NEPA) of 1969, as amended. Further, the Service is specifically soliciting information regarding the adequacy of the SHA as measured against the Service's Safe Harbor Policy and the implementing regulations.

DATES: Written data or comments must be received on or before October 20, 2005.

ADDRESSES: 1. Regional Director, U.S. Fish and Wildlife Service, Ecological Services, 1 Federal Drive, Fort Snelling, Minnesota 55111-4056.

2. U.S. Fish and Wildlife Service, Ecological Services, 620 South Walker Street, Bloomington, Indiana 47403-2121.

FOR FURTHER INFORMATION CONTACT: Mr. Peter Fasbender, (612) 713-5343.

SUPPLEMENTARY INFORMATION:

Availability of Documents

Individuals requesting copies of the enhancement of survival permit application and SHA should contact the Service by telephone at (612) 713-5343 or by letter (see ADDRESSES). Copies of the proposed SHA also are available for public inspection during regular business hours at the Bloomington, Indiana, Field Office (see ADDRESSES) or at the Service's Regional Web site at: http://www.fws.gov/midwest/NEPA. All comments received from individuals become part of the official public record. Requests for such comments will be handled in accordance with the Freedom of Information Act and the Council on Environmental Quality's NEPA regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

Background

The Karner blue butterfly was once a locally common species ranging from New England across the Great Lakes Region, extending as far west as eastern Minnesota. In Indiana, the Karner was originally distributed across the northern tier of counties on outwash and lake deposited sands. Currently there are approximately 1,000 acres of dune and swale topography remaining in the West Gary Recovery Unit, of this approximately 650 acres is potential habitat. By 1990, the Karner blue butterfly survived at only two dune and swale remnants: Ivanhoe Nature Preserve and Tolleston Ridges Nature Preserve. At Ivanhoe Nature Preserve, the butterfly was found within scattered openings until it disappeared there in 1998. After several years of habitat restoration effort, the Nature Conservancy began a re-introduction program in 2001. Despite recent success, the Karner blue butterfly continues to persist at limited habitat patches within three relatively isolated natural areas. Ecological fragmentation, combined with complex landownership and land use patterns, has created a difficult landscape for developing and implementing conservation strategies in the West Gary Recovery Unit.

The purpose of the SHA is to allow the Applicant and the Service to address the regional needs of the species by working with individual landowners to develop site specific restoration and management plans for a variety of properties. These plans will be designed to maximize Karner blue butterfly habitat within the constraints of the site's landscape setting and current land use and management needs. In addition they will document baseline conditions, monitoring protocols, timeframes, legal and regulatory responsibilities of participants, and will serve as a framework for coordinating conservation work in the West Gary Recovery Unit.

The SHA will allow willing property owners to enroll private and non-federal governmental lands into a regional program under an umbrella section 10(a)(1)(A) permit issued to the Applicant by means of a Certification of Inclusion. In addition, the Applicant will develop individual restoration and management plans to address the specific conservation benefits that enrolled properties contribute to establishing a viable metapopulation.

The area encompassed by the SHA may contain facilities eligible to be listed on the National Register of Historic Places. Additionally, other historical or archeological resources may be present. The National Historic Preservation Act and other laws require these properties and resources be identified and considered in project planning. The public is requested to inform the Service of concerns about archeological sites, buildings, and structures; historic events; sacred and traditional areas; and other historic preservation concerns.

Dated: August 23, 2005.
Wendi Weber,
Assistant Regional Director, Ecological Services, Region 3, Fort Snelling, Minnesota.

[FR Doc. 05-18682 Filed 9-19-05; 8:45 am]

BILLING CODE 4310-55-P